DEPARTMENT OF DEFENSE

Department of the Army

Privacy Act of 1974; System of Records

AGENCY: Department of the Army, DoD.

ACTION: Notice to amend a system of records.

SUMMARY: The Department of the Army is amending two systems of records notices in its existing inventory of record systems subject to the Privacy Act of 1974, (5 U.S.C. 552a), as amended.

DATES: This proposed action will be effective without further notice on March 15, 2000, unless comments are received which result in a contrary determination.

ADDRESSES: Privacy Act Officer, Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The specific changes to the records system being amended are set forth below followed by the notice, as amended, published in their entirety. The proposed amendments are not within the purview of subsection (r) of the Privacy Act of 1974, (5 U.S.C. 552a), as amended, which requires the submission of a new or altered system report.

Dated: February 8, 2000.
L.M. Bynum,
Alternate OSD Federal Register Liaison Officer, Department of Defense.

A0600o TAPC

SYSTEM NAME:

Army Career and Alumni Management Information System, Pre-separation and Job Assistance Counseling (April 2, 1999, 64 FR 15956).

Changes:

* * * * *

System name:

Delete entry and replace with ‘Army Career and Alumni Program (ACAP XXI)’.

System location:

Delete from entry ‘Total’.

* * * * *

System manager(s) and address:

Delete from entry ‘Total’.

* * * * *

A0600o TAPC

System name:

Army Career and Alumni Program (ACAP XXI).

System location:

Primary location: Headquarters, U.S. Army Personnel Command, ATTN: TAPC-PDT-O, 200 Stovall Street, Alexandria, VA 22332-0476.

Secondary locations: Army Career and Alumni Program Centers. A complete list of ACAP centers may be obtained by writing to the system manager.

Categories of individuals covered by the system:

Department of Defense military personnel (active/reserve duty) and their spouses; U.S. Coast Guard personnel and their spouses; Department of Defense civilian employees and their spouses; U.S. Army National Guard personnel and their spouses; DoD personnel who retired no earlier than ninety (90) days prior to the date they requested ACAP services; and widows and widowers of deceased active duty military personnel.

Categories of records in the system:

Files contain individual's name, home address, Social Security Number, date of birth, job qualifications, DD Form 2648 (Pre-Separation Counseling Checklist), and similar or pre-separation/transition counseling related documents.

Authority for maintenance of the system:

5 U.S.C. 301, Departmental Regulations; 10 U.S.C., Chapter 58; DoD Directive 1332.35; and E.O. 9397 (SSN).

Purpose(s):

To provide transition planning/counseling for individuals so that they may re-enter the civilian job market.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Information is stored electronically on computers and on paper in file folders.

Retrievability:

By name or Social Security Number.

Safeguards:

All records are maintained in secured areas, accessible only to designated personnel whose official duties require they have access. The personal computer system can only be accessed through a system of passwords known only to the individual and the system administrator/supervisor. Paper files are secured in locked file cabinets. The areas where the personal computer and paper files are located are secured after duty hours in locked buildings.

Retention and disposal:

Disposition pending.

System manager(s) and address:

Commander, U.S. Army Personnel Command, ATTN: TAPC-PDT-O, 200 Stovall Street, Alexandria, VA 22332-0476.

Notification procedure:

Individuals seeking to determine whether information about themselves is contained in the system should address written inquiries to the Director of the ACAP Center where transition assistance was obtained or contact the system manager.

Requesting individual must submit full name and Social Security Number.

Record access procedures:

Individuals seeking access to records about themselves contained in this system should address written inquiries to the Director of the ACAP Center where transition assistance was obtained or contact the system manager.

Requesting individual must submit full name and Social Security Number.

Contesting record procedures:

The Army's rules for accessing records, and for contesting contents and appealing initial agency determinations are contained in Army Regulation 340-21; 32 CFR part 505; or may be obtained from the system manager.

Record source categories:

From the individual, Army records and reports, and the U.S. Coast Guard records.

Exemptions claimed for the system:

None.

A0614-30 DAPE

System name:

DA Conscientious Objector Review Board (February 22, 1993, 58 FR 10002).

Changes:

System identifier:

Delete entry and replace with ‘A0600-43 DAPE’.

* * * * *

Authority for maintenance of the system:

Delete entry and replace with ‘10 U.S.C. 3013, Secretary of the Army; Army Regulation 600-43, Conscientious Objection; and E.O. 9397 (SSN)’.

* * * * *

Routine uses of records maintained in the system, including categories of users and the purposes of such uses:

Delete second paragraph and replace with ‘To the Selective Service System Headquarters for the purpose of identifying individuals who have less than 180 days active duty, and who have been discharged by reason of conscientious objection.’

* * * * *

Retention and disposal:

Delete entry and replace with ‘Retained by the Department of the Army Conscientious Objector Review Board for 1 year after transfer or separation of individual. Copy of application and Board decision become part of the individual’s Official Military Personnel File permanently'.

* * * * *

A0600-43 DAPE

System name:

DA Conscientious Objector Review Board.

System location:

DA Conscientious Objector Review Board, Room 5S33, Hoffman Building II, Alexandria, VA 22332-2600.

Categories of individuals covered by the system:

Army personnel who apply either for separation based on conscientious objection (1-O) or reassignment/reclassification to noncombatant training and service based on conscientious objection (I-A-O).

Categories of records in the system:

Case record consists of individual's application (DA Form 4187), results of interview evaluation by military chaplain and a psychiatrist recorded on DA Form 3822-R, command's report of investigation, evidence submitted by applicant, witness statements, hearing transcript or summary, information or records from the Selective Service System if appropriate, applicant's rebuttal to commander's recommendation; DA Conscientious Objector Review Board correspondence with applicant, summary of evidence considered, discussion, conclusions, names of voting DACORB members, disposition of application, and similar relevant material.

Authority for maintenance of the system:

10 U.S.C. 3013, Secretary of the Army; Army Regulation 600-43, Conscientious Objection; and E.O. 9397 (SSN).

Purpose(s):

To investigate claims of service member that he/she is a conscientious objector to participation in war or to the bearing of arms and to make final determination resulting in assignment of appropriate status or awarding of discharge.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Selective Service System Headquarters for the purpose of identifying individuals who have less than 180 days active duty, and who have been discharged by reason of conscientious objection.

The ‘Blanket Routine Uses’ set forth at the beginning of the Army's compilation of systems of records notices also apply to this system.

Policies and practices for storing, retrieving, accessing, retaining, and disposing of records in the system:

Storage:

Paper records in file folders.

Retrievability:

Alphabetically, by applicant's surname.

Safeguards:

Records are maintained in areas accessible only to authorized personnel who have an official need therefor, within building that employs security guards.

Retention and disposal:

Retained by the Department of the Army Conscientious Objector Review Board for 1 year after transfer or separation of individual. Copy of application and Board decision become part of the individual's Official Military Personnel File permanently.

System manager(s) and address:

Deputy Chief of Staff for Personnel, Headquarters, Department of the Army, 300 Army Pentagon, Washington, DC 20310-0300.

Notification procedure:

Individuals seeking to determine whether information about themselves is contained in this system of records may write to the Deputy Chief of Staff for Personnel, Headquarters, Department of the Army, ATTN: DAPE-ZXI-IC (PA Officer), 300 Army Pentagon, Washington, DC 20310-0300.

Individuals should provide their full name, current address and information verifiable within the record itself. In addition, the request must be signed.

Record access procedures:

Individuals seeking access to information about themselves contained in this system of records may write to the Deputy Chief of Staff for Personnel, Headquarters, Department of the Army, ATTN: DAPE-ZXI-IC (PA Officer), 300 Army Pentagon, Washington, DC 20310-0300.

Individual should provide their full name, current address and Social Security Number, and the request must be signed.

Contesting record procedures:

The Army's rules for accessing records, and for contesting contents and appealing initial agency determinations are contained in Army Regulation 340-21; 32 CFR part 505; or may be obtained from the system manager.

Record source categories:

From the individual, his/her commander, official records required by Army Regulation 600-43.

Exemptions claimed for the system:

None.

[FR Doc. 00-3355 Filed 2-11-00; 8:45 am]

BILLING CODE 5001-10-F